DEPARTMENT OF TRANSPORTATION

Federal Aviation Administration

Notice of Passenger Facility Charge (PFC) Approvals and Disapprovals

AGENCY: Federal Aviation Administration (FAA), DOT.

ACTION: Monthly Notice to PFC Approvals and Disapprovals. In November 2001, there were 15 applications approved. This notice also includes information on one application, approved in October 2001, inadvertently left off the October 2001 notice. Additionally, seven approved amendments to previously approved applications are listed.

SUMMARY: The FAA publishes a monthly notice, as appropriate, of PFC approvals and disapprovals under the provisions of the Aviation Safety and Capacity Expansion Act of 1990 (Title IX of the Omnibus Budget Reconciliation Act of 1990) Pub. L. 101-508) and part 158 of the Federal Aviation Regulations (14 CFR part 158). This notice is published pursuant to paragraph d of § 158.29.

PFC Applications Approved

Public Agency: City of Rhinelander and Oneida County, Rhinelander, Wisconsin.

Application Number: 01-07-C-00-RHI.

Application Type: Impose and use a PFC.

PFC Level: $4.50.

Total PFC Revenue Approved in this Decision: $34,405.

Earliest Charge Effective Date: January 1, 2004.

Estimated Charge Expiration Date: April 1, 2004.

Class of Air Carriers Not Required to Collect PFC's: Part 135 air taxi/commercial operators filing FAA Form 1800-31.

Determination: Approved. Based on information contained in the public agency's application, the FAA has determined that the approved class accounts for less than 1 percent of the total annual enplanements at Rhinelander-Oneida County Airport.

Brief Description of Projects Approved for Collection and Use: Communication tower. Repaint runway with beads. Airfield signage. Runway safety area grading. Survey and clear obstructions. PFC application administrative costs.

Decision Date: October 5, 2001.

FOR FURTHER INFORMATION CONTACT: Daniel J. Millenacker, Minneapolis Airports District Office, (612) 713-4350.

Public Agency: Port of Oakland, Oakland, California.

Application Number: 01-10-C-00-OAK.

Application Type: Impose and use a PFC.

PFC Level: $3.00.

Total PFC Revenue Approved in this Decision: $32,000,000.

Earliest Charge Effective Date: February 1, 2002.

Estimated Charge Expiration Date: October 1, 2003.

Classes of Air Carriers Not Required to Collect PFC's: (1) Non-scheduled/on-demand air carriers filing FAA Form 1800-31; (2) commuters or small certificated air carriers filing Department of Transportation Form 298-C T1 or E1.

Determination: Approved. Based on information contained in the public agency's application, the FAA has determined that each approved class accounts for less than 1 percent of the total annual enplanements at Oakland International Airport.

Brief Description of Projects Approved for Collection and Use: Terminal One ticket counter expansion, phase 1. Overlay runway 11/29. Terminals One and Two restroom improvements. Multi-user system equipment in Terminal One.

Brief Description of Withdrawn Projects: Construct remote overnight aircraft parking apron. Terminal One gate improvement.

Determination: These projects were withdrawn by the public agency by letter dated September 24, 2001. Therefore, the FAA did not rule on these projects in this decision.

Decision Date: November 1, 2001.

FOR FURTHER INFORMATION CONTACT: Marlys Vandervelde, San Francisco Airports District Office, (650) 876-2806.

Public Agency: Waterloo Airport Commission, Waterloo, Iowa.

Application Number: 01-04-C-00-ALO.

Application Type: Impose and use a PFC.

PFC Level: $4.50.

Total PFC Revenue Approved in this Decision: $291,800.

Earliest Charge Effective Date: May 1, 2003.

Estimated Charge Expiration Date: July 1, 2004.

Class of Air Carriers not Required to Collect PFC's: None.

Brief Description of Projects Approved for Collection and Use: Runway 12/30 rejuvenation. Runway 18/36 rejuvenation. Reconstruct taxiway E. Reconstruct and overlay taxiway A.

Brief Description of Project Approved for Use: Terminal building modernization—construction.

Decision Date: November 6, 2001.

FOR FURTHER INFORMATION CONTACT: Lorna Sandridge, Central Region Airports Division, (816) 329-2641.

Public Agency: City of Macon Municipal Aviation Department, Macon, Georgia.

Application Number: 01-01-C-00-MCN.

Application Type: Impose and use a PFC.

PFC Level: $4.50.

Total PFC Revenue Approved in this Decision: $356,842.

Earliest Charge Effective Date: March 1, 2002.

Estimated Charge Expiration Date: April 1, 2005.

Class of Air Carriers not Required to Collect PFC's: Air taxi/commercial operators.

Determination: Approved. Based on the information in the public agency's application, the FAA has determined that the approved class accounts for less than 1 percent of the total annual enplanements at Middle Georgia Regional Airport.

Brief Description of Projects Approved for Collection and Use: Rehabilitate runway 5/23. Passenger terminal improvements.

Brief Description of Disapproved Project: Airport entrance road.

Determination: The FAA has determined that this project does not meet the requirements of § 158.25(b)(14)(ii). The public agency did not provide a list of alternative projects to use PFC revenue.

Decision Date: November 8, 2001.

FOR FURTHER INFORMATION CONTACT: Daniel Gaetan, Atlanta Airports District Office, (404) 305-7146.

Public Agency: Kenton County Airport Board, Covington, Kentucky.

Application Number: 01-07-C-00-CVG.

Application Type: Impose and use a PFC.

PFC Levbel: $3.00.

Total PFC Revenue Approved in This Decision: $27,138,000.

Earliest Charge Effective Date: June 1, 2002.

Estimated Charge Expiration Date: June 1, 2003.

Classes of Air Carriers Not Required to Collect PFC's: (1) Part 121 supplemental operators which operate at the airport without an operating agreement with public agency and enplane less than 1,500 passengers per year; (2) Part 135 on-demand air taxis, both fixed wing and rotary.

Determination: Approved. Based on the information in the public agency's application, the FAA has determined each of the approved classes accounts for less than 1 percent of the total annual enplanements at Cincinnati/Northern Kentucky International Airport.

Brief Description of Projects Approved for Collection and Use: Concourse C improvements: south infill expansion; and north infill expansion and entry and canopy renovation. Deicing system enhancements: in stream treatment system engineering/design; and glycol processing and recycling facility. Taxiway M extension and connecting taxiways. Taxiways N extension. Aircraft rescue and firefighting satellite building (phase I). Planning study updates: airport master plan update (2002); and part 150 study update (2003).

Brief Description of Projects Partially Approved for Collection and Use: Runway 27 safety zone improvements: realign taxiway M; and runway 27 runway safety and area improvements.

Determination: The FAA has determined that the threshold relocation should not be constructed as proposed because of safety concerns. Therefor, the project was partially approved.

FOR FURTHER INFORMATION CONTACT: Jerry O. Bowers, Memphis Airports District Office, (901) 544-3495.

Public Agency: Metropolitan Nashville Airport Authority, Nashville, Tennessee.

Application Number: 01-09-C-00-BNA.

Application Type: Impose and use a PFC.

PFC Level: $3.00.

Total PFC Revenue Approved in This Decision: $26,005,000.

Earliest Charge Effective Date: October 1, 2002.

Estimated Charge Expiration Date: October 1, 2004.

Class of Air Carriers Not Required to Collect PFC's: Part 135 (air taxi).

Determination: Approved. Based on information contained in the public agency's application, the FAA has determined that the approved class accounts for less than 1 percent of the total annual enplanements at the Nashville International Airport.

Brief Description of Projects Approved for Collection and Use: Donelson Pike and Terminal Drive relocation. Inbound baggage carousel security cages. Elevator on A concourse. Airfield pavement rehabilitation. Airfield hold bar modifications. Precision approach path indicator lights on runways 2L and 31. Aircraft rescue and firefighting vehicle. Cargo area infrastructure and utility improvements. Live scan fingerprint equipment.

FOR FURTHER INFORMATION CONTACT: Cynthia K. Wills, Memphis Airports District Office, (901) 544-3495.

Public Agency: Telluride Regional Airport Authority, Telluride, Colorado.

Application Number: 01-03-I-00-TEX.

Application Type: Impose a PFC.

PFC Level: $4.50.

Total PFC Revenue Approved in This Decision: $430,000.

Earliest Charge Effective Date: April 1, 2002.

Estimated Charge Expiration Date: January 1, 2007.

Class of Air Carriers Not Required to Collect PFC's: Air taxi operators filing FAA Form 1800-31.

Determination: Approved. Based on information contained in the public agency's application, the FAA has determined that the approved class accounts for less than 1 percent of the total annual enplanements at the Telluride Regional Airport.

Brief Description of Projects Approved for Collection: Land acquisition. Design engineering.

Decision Date: November 13, 2001.

FOR FURTHER INFORMATION CONTACT: Chris Schaffer, Denver Airports District Office, (303) 342-1258.

Public Agency: County of Brown, Green Bay, Wisconsin.

Application Numbers: 01-03-C-00-GRB.

Application Type: Impose and use a PFC.

PFC Level: $4.50.

Total PFC Revenue Approved in this Decision: $1,023,400.

Earliest Charge Effective Date: March 1, 2002.

Estimated Charge Expiration Date: October 1, 2002.

Class of Air Carriers Not Required to Collect PFC's: Part 135 air taxi/commercial operators.

Determination: Approved. Based on the information in the public agency's application, the FAA has determined that the approved class accounts for less than 1 percent of the total annual enplanements at Austin Straubel International Airport.

Brief Description of Projects Approved for Collection and Use: Parallel taxiways D and M construction. PFC administrative costs.

Decision Date: November 11, 2001.

FOR FURTHER INFORMATION CONTACT: Daniel J. Millenacker, Minneapolis Airports District Office, (612) 713-4350.

Public Agency: Yakima Air Terminal Board, Yakima, Washington.

Application Number: 01-07-I-00-YKM.

Application Type: Impose a PFC.

PFC Level: $3.00.

Total PFC Revenue Approved in This Decision: $456,000.

Earliest Charge Effective Date: March 1, 2002.

Estimated Charge Expiration Date: March 1, 2004.

Class of Air Carriers Not Required to Collect PFC's: Air taxi/commercial operators filing FAA Form 1800-31.

Determination: Approved. Based on the information in the public agency's application, the FAA has determined that the approved class accounts for less than 1 percent of the total annual enplanements at Yakima Air Terminal—McAllister Field.

Brief Description of Project Approved for Collection: Runway 27 safety area improvements, phase II.

Decision Date: November 13, 2001.

FOR FURTHER INFORMATION CONTACT: Suzanne Lee-Pang, Seattle Airports District Office, (425) 227-2654.

Public Agency: County of Routt, Hayden, Colorado.

Application Number: 01-04-C-00-HDN.

Application Type: Impose and use a PFC.

PFC Level: $4.50.

Total PFC Revenue Approved in this Decision: $150,833.

Earliest Charge Effective Date: June 1, 2002.

Estimated Charge Expiration Date: November 1, 2002.

Class of Air Carriers Not Required to Collect PFC's: None.

Brief Description of Projects Approved for Collection and Use: Runway 10/28 distance to go signs. Snow removal equipment. Air carrier apron drainage (glycol containment). Master plan update. Taxiway A rehabilitation and lighting improvements.

Brief Description of Withdrawn Project: Construction of new taxiway.

Determination: This project was withdrawn by the public agency by letter dated August 17, 2001. Therefore, the FAA did not rule on this project in this decision.

Decision Date: November 15, 2001.

FOR FURTHER INFORMATION CONTACT: Chris Schaffer, Denver Airports District Office, (303) 342-1258.

Public Agency: Wicomico County Airport Commission, Salisbury, Maryland.

Application Number: 01-01-C-00-SBY

Application Type: Impose and use a PFC.

PFC Level: $3.00.

Total PFC Revenue Approved in This Decision: $44,892

Earliest Charge Effective Date: February 1, 2002.

Estimated Charge Expiration Date: October 1, 2004.

Class of Air Carriers Not Required to Collect PFC'S: Both unscheduled Part 135 and Part 121 charter operators for hire to the general public.

Determination: Approved. Based on the information in the public agency's application, the FAA has determined that the approved class accounts for less than 1 percent of the total annual enplanements at Salisbury-Ocean City: Wicomico Regional Airport.

Brief Description of Projects Approved for Collection and Use: Develop PFC program and PFC application. Install airfield guidance signs and electrical vault. Design and construct fillet widening for runway 5/23 with joint reconstruction. Construct taxiway B extension and overlay taxiway B. Rehabilitate taxiway C. Rehabilitate taxiway D. Acquire land. Runway 5 and 23 approaches. Rehabilitate runway 5/23 medium intensity runway lights and runway 5 runway end intensity lights. Conduct environmental assessment. Acquire snow removal equipment. acquire passenger lift equipment.

Decision Date: November 21, 2001.

FOR FURTHER INFORMATION CONTACT: Eleanor Schifflin, Eastern Region Airports Division, (718) 553-3354.

Public Agency: Metropolitan Airport Authority of Rock Island County, Moline, Illinois.

Application Number: 01-04-C-00-MLI.

Application Type: Impose and use a PFC.

PFC Level: $4.50.

Total PFC Revenue Approved in This Decision: $1,520,320

Earliest Charge Effective Date: July 1, 2016.

Estimated Charge Expiration Date: July 1, 2017.

Class of Air Carriers Not Required to Collect PFC'S: Part 135 air taxi/commercial operators.

Determination: Approved. Based on the information in the public agency's application, the FAA has determined that the approved class accounts for less than 1 percent of the total annual enplanements at Quad City International Airport.

Brief Description of Projects Approved for Collection and Use: Aircraft rescue and firefighting equipment purchase. Purchase of regional jet boarding bridges.

Decision Date: November 23, 2001.

FOR FURTHER INFORMATION CONTACT: Richard A. Pur, Chicago Airports District Office, (847) 294-7527.

Public Agency: Northwestern Regional Airport Commission, Traverse City, Michigan.

Application Number: 01-02-C-00-TVC.

Application Type: Impose and use a PFC.

PFC Level: $4.50.

Total PFC Revenue Approved in This Decision: $420,019.

Earliest Charge Effective Date: January 1, 2017.

Estimated Charge Expiration Date: January 1, 2018.

Class of Air Carriers Not Required to Collect PFC'S: Part 135 air taxi/commercial operators filing FAA Form 1800-31.

Determination: Approved. Based on the information in the public agency's application, the FAA has determined that the approved class accounts for less than 1 percent of the total annual enplanements at Cherry Capital Airport.

Brief Description of Project Approved for Use: Design and construct new terminal building, ramp for new terminal, and taxiway for new terminal.

Brief Description of Projects Approved for Collection and Use: Pavement sensor system. Terminal expansion. Connector taxiway. High intensity runway lights, runway 10/28. Terminal apron lighting. Snow removal equipment procurement, plow truck. Taxiway D. Tie-down apron and taxi streets. Retention ponds. Expand equipment storage building. Deer control fence. Airfield signs. Taxiway to west hangar area. Bituminous overlay taxiways A, B, and J. Holding apron, runway 28 end. Security fencing and power gates. Screen wall and blast deflectors. Expansion of airline terminal. Snow removal equipment procurement. Rehabilitate southeast general aviation apron and airline apron. Loading bridge. Master plan. Snow removal equipment procurement (snow blower). Friction testing vehicle. Rehabilitate airport access road. Relocate water main. Jet bridge for regional carrier. Restroom addition to airline terminal. Relocate beacon. Security fencing. Conduct phase I of financial and land use plan.

Decision Date: November 23, 2001.

FOR FURTHER INFORMATION CONTACT: Arlene B. Draper, Detroit Airports District Office, (734) 487-7282.

Public Agency: County of Beltrami and City of Bemidji, Bemidji, Minnesota.

Application Number: 01-02-C-00-BJI.

Application Type: Impose and use a PFC.

PFC Level: $4.50.

Total PFC Revenue Approved in This Decision: $201,952.

Earliest Charge Effective Date: February 1, 2002.

Estimated Charge Expiration Date: August 1, 2003.

Classes of Air Carriers Not Required to Collect PFC's: (1) Non-scheduled/on-demand air carriers filing FAA Form 1800-31; (2) commuters or small certificated air carriers filing Department of Transportation Form 298-C or E1.

Determination: Approved. Based on information contained in the public agency's application, the FAA has determined that each approved class accounts for less than 1 percent of the total annual enplanements at Bemidji/Beltrami County Airport.

Brief Description of Projects Approved for Collection and Use: Acquire aircraft rescue and firefighting vehicle. Improve terminal. Replace runway and taxiway lighting cables. Install deer fence (phase I). Expand auto parking lot. Improve boundary fence. Seal coat parking lot. Install terminal security. PFC application. Rehabilitate apron. Update master plan. Replace snow removal equipment.

Decision Date: November 23, 2001.

FOR FURTHER INFORMATION CONTACT: Daniel J. Millenacker, Minneapolis Airports District Office, (612) 713-4350.

Public Agency: Capital Region Airport Authority, Lansing, Michigan.

Application Number: 01-04-C-00-LAN.

Application Type: Impose and use a PFC.

PFC Level: $4.50.

Total PFC Revenue Approved in this Decision: $8,913.046.

Earliest Charge Effective Date: July 1, 2005.

Estimated Charge Expiration Date: August 1, 2011.

Class of Air Carriers Not Required to Collect PFC's: Non-scheduled part 135 and air taxi operators.

Determination: Approved. Based on information contained in the public agency's application, the FAA has determined that the approved class accounts for less than 1 percent of the total annual enplanements at the Capital City Airport.

Brief Description of Projects Approved for Collection and Use: Replace multi-user flight information display system. Replace security access control system. Overlay taxiway C and end of runway 24. Reconstruct terminal appron. Master plan/part 150 update. Relocate rental car lot. National Pollutant Discharge Elimination System (NPDES) permit—mitigation phase II. NPDES permit—mitigation phase III. PFC consultation fees. Replace baggage claim equipment. Baggage claim expansion.

Brief Description of Projects Approved for Collection: Reconstruct taxiway fillets. Gate expansion. Purchase and install ground level loading bridges.

Decision Date: November 28, 2001.

FOR FURTHER INFORMATION CONTACT: Arlene B. Draper, Detroit Airports District Office, (734) 487-7282.

Public Agency: City of Naples Airport Authority, Naples, Florida.

Application Number: 01-03-I-00-APF.

Application Type: Impose a PFC.

PFC Level: $3.00.

Total PFC Revenue Approved in this Decision: $850,000.

Earliest Charge Effective Date: February 1, 2002.

Estimated Charge Expiration Date: June 1, 2007.

Class of Air Carriers Not Required to Collect PFC's: Non-scheduled air carriers and charter flights using aircraft with less than 10 seats.

Determination: Approved. Based on information contained in the public agency's application, the FAA has determined that the approved class accounts for less than 1 percent of the total annual enplanements at the Naples Municipal Airport.

Brief Description of Project Approved for Collection: Rehabilitate and extend taxiway B.

Decision Date: November 30, 2001.

FOR FURTHER INFORMATION CONTACT: Jennifer Ganley, Orlando Airports District Office, (407) 812-6331, extension 25.

Amendments to PFC Approvals
Amendment No. city, state | Amendment approved date | Original approved net PFC revenue | Amended approved net PFC revenue | Original estimated charge exp. date | Amended estimated charge exp. date
95-01-03-SAN, San Diego, CA | 08/23/01 | $97,705,000 | $105,896,731 | 09/01/00 | 03/01/01
98-02-C-01-SAN, San Diego, CA | 08/23/01 | 28,089,000 | 49,972,839 | 01/01/02 | 06/01/03
*96-01-1-01-TVC, Traverse City, MI | 10/25/01 | 14,846,381 | 14,846,381 | 01/01/17 | 01/01/17
*96-04-C-02-SMF, Sacramento, CA | 10/31/01 | 78,993,780 | 78,993,780 | 04/01/06 | 02/01/03
93-01-C-01-RNO, Reno, NV | 10/31/01 | 33,896,157 | 37,973,702 | 05/01/99 | 05/01/99
98-07-1-03-PHL, Philadelphia, PA | 11/09/01 | 672,000,000 | 946,267,790 | 07/01/07 | 02/01/11
99-08-U-02-PHL, Philadelphia, PA | 11/09/01 | NA | NA | 07/01/07 | 02/01/11
Note: The amendments denoted by an asterisk (*) include a change to the PFC level charged from $3.00 per enplaned passenger to $4.50 per enplaned passenger. For Sacramento, CA and Traverse City, MI, this change is effective on January 1, 2002.

Issued in Washington, DC, on December 12, 2001.
Barry Molar,
Manager, Airports Financial Assistance Division.

[FR Doc. 01-31184 Filed 12-17-01; 8:45 am]

BILLING CODE 4910-13-M